FEDERAL COMMUNICATIONS COMMISSION

47 CFR Part 73

[DA 06-1074; MB Docket No. 05-124; RM-11174]

Radio Broadcasting Services; Killen, AL and Loretto, TN

AGENCY: Federal Communications Commission.

ACTION: Final rule.

SUMMARY: The Audio Division, at the request of Pulaski Broadcasting, Inc., licensee of Station WKSR-FM, Channel 252C3, Killen, Alabama, deletes Channel 252C3 at Killen, Alabama, from the FM Table of Allotments, allots Channel 252C3 at Loretto, Tennessee, as the community's first local FM service, and modifies the license of Station WKSR-FM to specify operation on Channel 252C3 at Loretto. Channel 252C3 can be allotted to Loretto, Tennessee, in compliance with the Commission's minimum distance separation requirements with a site restriction of 13.8 km (8.5 miles) southwest of Loretto. The coordinates for Channel 252C3 at Loretto, Tennessee, are 35-00-47 North Latitude and 87-34-06 West Longitude.

DATES: Effective July 17, 2006.

FOR FURTHER INFORMATION CONTACT: Deborah Dupont, Media Bureau, (202) 418-2180.

SUPPLEMENTARY INFORMATION: This is a synopsis of the Commission's Report and Order, MB Docket No. 05-124, adopted May 31, 2006, and released June 2, 2006. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, www.bcpiweb.com. The Commission will send a copy of this Report and Order in a report to be sent to Congress and the Government Accountability Office pursuant to the Congressional Review Act, see 5 U.S.C. 801(a)(1)(A).

List of Subjects in 47 CFR Part 73

Radio, Radio broadcasting.

For the reasons discussed in the preamble, the Federal Communications Commission amends 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Alabama is amended by removing Killen, Channel 252C3.

3. Section 73.202(b), the Table of FM Allotments under Tennessee is amended by adding Loretto, Channel 252C3.

Federal Communications Commission.
John A. Karousos,
Assistant Chief, Audio Division, Media Bureau.

[FR Doc. E6-9741 Filed 6-20-06; 8:45 am]

BILLING CODE 6712-01-P